NATIONAL AERONAUTICS AND SPACE ADMINISTRATION

[Notice: (15-092)]

Notice of Centennial Challenges 2016 Sample Return Robot (SRR) Challenge

AGENCY: National Aeronautics and Space Administration (NASA).

ACTION: Notice of Centennial Challenges 2016 Sample Return Robot (SRR) Challenge.

SUMMARY: This notice is issued in accordance with 51 U.S.C. 20144(c). The Sample Return Robot (SRR) Challenge is scheduled and teams that wish to compete may now register. Centennial Challenges is a program of prize competitions to stimulate innovation in technologies of interest and value to NASA and the nation. The 2016 SRR Challenge is a prize competition designed to encourage development of new technologies or application of existing technologies in unique ways to autonomously collect and retrieve samples using robotics. NASA is providing the prize purse and Worcester Polytechnic Institute (WPI) is conducting the challenge.

DATES: 2016 SRR Challenge for Level 1 will be held June 6-11, 2016; Level 2 will be held September 1-5, 2016.

ADDRESSES: 2016 SRR Challenge will be conducted at Worcester Polytechnic Institute near Worcester, Massachusetts.

FOR FURTHER INFORMATION CONTACT: To register for or get additional information regarding the 2016 SRR Challenge, please visit: http://www.nasa.gov/robotprize.

For general information on the NASA Centennial Challenges Program please visit: http://www.nasa.gov/challenges. General questions and comments regarding the program should be addressed to Monsi Roman, Centennial Challenges Program, NASA Marshall Space Flight Center Huntsville, AL 35812. Email address: hq-stmd-centennialchallenges@mail.nasa.gov.

SUPPLEMENTARY INFORMATION:

Summary

Autonomous robot rovers will seek out samples and return them to a designated point in a set time period. Samples will be randomly placed throughout the roving area. They may be placed close to obstacles, both movable and immovable. Robots will be required to navigate over unknown terrain, around obstacles, and in varied lighting conditions to identify, retrieve, and return these samples. Winners will be determined based on the number of samples returned to the designated collection point as well as the value assigned to the samples.

I. Prize Amounts

The total Sample Return Robot Challenge purse is $1,500,000 (one million five hundred thousand U.S. dollars). Prizes will be offered for entries that meet specific requirements detailed in the Rules.

II. Eligibility

To be eligible to win a prize, competitors must;

(1) Register and comply with all requirements in the rules.

(2) In the case of a private entity, shall be incorporated in and maintain a primary place of business in the United States, and in the case of an individual, whether participating singly or in a group, shall be a citizen or permanent resident of the United States.

(3) Not be a Federal entity or Federal employee acting within the scope of their employment.

III. Rules

The complete rules and team agreement for the 2016 SRR Challenge can be found at: http://wp.wpi.edu/challenge/

Cheryl E. Parker,
Federal Register Liaison Officer.

[FR Doc. 2015-27118 Filed 10-23-15; 8:45 am]

BILLING CODE 7510-13-P